DEPARTMENT OF LABOR

Employment and Training Administration

[TA-W-51,242]

Polyone Corporation, O'Sullivan Plastic Division, Yerington, NV; Notice of Affirmative Determination Regarding Application for Reconsideration

By letter of June 27, 2003, a company official requested administrative reconsideration of the Department of Labor's Notice of Negative Determination Regarding Eligibility to Apply for Worker Adjustment Assistance, applicable to workers of the subject firm. The denial notice was signed on May 5, 2003, and published in the Federal Register on May 19, 2003 (68 FR 27106).

The Department reviewed the request for reconsideration and has determined that the Department will conduct further surveys of customers provided by the company that were not indicated in the initial investigation.

Conclusion

After careful review of the application, I conclude that the claim is of sufficient weight to justify reconsideration of the Department of Labor's prior decision. The application is, therefore, granted.

Signed at Washington, DC this 21st day of November, 2003.
Linda G. Poole,
Certifying Officer, Division of Trade Adjustment Assistance.

[FR Doc. 03-31300 Filed 12-18-03; 8:45 am]

BILLING CODE 4510-30-P